DEPARTMENT OF JUSTICE

Notice of Lodging of Proposed Consent Decree Under the Comprehensive Environmental Response, Compensation, and Liability Act

On November 1, 2013, the Department of Justice lodged a proposed a Consent Decree with the United States District Court for the Southern District of Illinois in the lawsuit entitled United States v. Alcoa Inc., the City of East St. Louis, IL, and Alton & Southern Railway, Co., Civil Action No. 3:13-cv-01126-MJR-SCW.

The United States filed this lawsuit under the Comprehensive Environmental Response, Compensation and Liability Act (CERCLA). The United States' complaint names Alcoa Inc., the City of East St. Louis, IL, and Alton & Southern Railway, Co., as defendants. The complaint requests recovery of costs that the United States incurred responding to releases of hazardous substances at Operable Unit 1 at the North Alcoa Superfund Site in East St. Louis, Illinois. The complaint also seeks injunctive relief. Under the terms of the Consent Decree, the Defendants have agreed to pay EPA's past and future response costs and perform the remedial action that EPA selected for the Operable Unit 1 portion of the Site. In return, the United States agrees not to sue the defendants under sections 106 and 107 of CERCLA for Operable Unit 1 of the North Alcoa Superfund Site.

The publication of this notice opens a period for public comment on the proposed Consent Decree. Comments should be addressed to the Assistant Attorney General, Environment and Natural Resources Division, and should refer to United States v. Alcoa Inc., the City of East St. Louis, IL, and Alton & Southern Railway, Co., D.J. Ref. No. 90-11-3-10590. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the proposed Consent Decree may be examined and downloaded at this Justice Department Web site: http://www.usdoj.gov/enrd/Consent_Decrees.html. We will provide a paper copy of the proposed Consent Decree upon written request and payment of reproduction costs. Please mail your request and payment to: Consent Decree Library, U.S. DOJ—ENRD, P.O. Box 7611, Washington, DC 20044-7611.

Please enclose a check or money order for $39.25 (25 cents per page reproduction cost) payable to the United States Treasury. For a paper copy without the Appendices, the cost is $14.50.

Maureen Katz,
Assistant Section Chief, Environmental Enforcement Section, Environment and Natural Resources Division.

[FR Doc. 2013-26982 Filed 11-8-13; 8:45 am]

BILLING CODE 4410-15-P